DEPARTMENT OF TRANSPORTATION

Federal Aviation Administration

Nineteenth Meeting: RTCA Special Committee 222, AMS(R)S

AGENCY: Federal Aviation Administration (FAA), Department of Transportation (DOT).

ACTION: Meeting Notice of RTCA Special Committee 222, AMS(R)S.

SUMMARY: The FAA is issuing this notice to advise the public of the nineteenth meeting of the RTCA Special Committee 222, AMS(R)S. Per RTCA PMC changes to the SC-222 Terms of Reference, this meeting will be a joint meeting with Eurocae WG-82. The SC-222 purpose will be to develop a joint work plan toward the revised Terms of Reference, and harmonize differences in deliverable items and schedule with WG-82.

DATES: The meeting will be held April 14, 2015 from 9:00 a.m.-Noon (EDT).

ADDRESS: This meeting will be held at Eurocontrol Brussels. This meeting is expected to be largely virtual, conducted over Webex with a telephone bridge. Dr. LaBerge and Mr. Robinson will be present at RTCA. Those who plan to attend in person at the Eurocontrol offices should notify should notify the Chair of WG-82, Mr. Armin Schlereth at least seven days in advance. Please contact Armin Schlereth, DFS Deutsche Flugsicherung GmbH, SIS/DM, Am DFS Campus 7 63225 Langen. Phone: +49 6103 707 2433. Mobile: +49 172 5209 369. Fax: +49 6103 707 2490.

Remote instructions: https://rtca.webex.com/rtca/j.php?MTID=mbfc03c2b8dfea13ebe14cbaf2bcb7cd9.

Meeting number: 273 405 827.

Meeting password: April 14.

Audio connection: 1-877-668-4493 Call-in toll-free number (US/Canada).

Access code: 273 405 827.

FOR FURTHER INFORMATION CONTACT: Jennifer Iversen may be contacted directly at email: jiversen@rtca.org or by The RTCA Secretariat, 1150 18th Street NW., Suite 910, Washington, DC 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 222. The agenda will include the following:

April 14th

• Greetings & Attendance

• Review summary of January meeting (18th Plenary) will be accomplished by email prior to this joint meeting.

• Discussion of joint SC-222/WG-82 work program. Participants should read the information posted on the SC-222 Workspace prior to the meeting.

• Because WG-82 is the host organization, we will largely follow the WG-82 agenda, which will be posted to the workspace.

• Schedule and venue for 20th Plenary.

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 17, 2015.
Mohannad Dawoud,
Management Analyst, NextGen, Program Oversight and Administration, Federal Aviation Administration.

[FR Doc. 2015-06496 Filed 3-20-15; 8:45 am]

BILLING CODE 4910-13-P